DEPARTMENT OF AGRICULTURE

Forest Service

DEPARTMENT OF THE INTERIOR

Bureau of Land Management

[OR-930-6334-DT]

Notice of Availability (NOA) Record of Decision (ROD) To Remove or Modify the Survey and Manage Mitigation Measure Standards and Guidelines

AGENCIES: Forest Service, USDA; Bureau of Land Management, USDI.

ACTION: Notice of availability of record of decision.

SUMMARY: In accordance with the National Environmental Policy Act, the Federal Land Policy and Management Act, and the National Forest Management Act, the USDI Bureau of Land Management and the USDA Forest Service announce the decision to amend selected portions of the 1994 Record of Decision for the Northwest Forest Plan by removing the Survey and Manage Mitigation Measure Standards and Guidelines. Survey and Manage provided conservation measures for rare and little known species associated with late successional, old growth forests. These Standards and Guidelines were frustrating the Agencies' ability to meet the other resource management goals of the Northwest Forest Plan (timber harvest, hazardous fuels treatment, forest restoration). Although the Survey and Manage Standards and Guidelines will be removed with this decision, conservation of rare and little known species will continue to be accomplished through the other elements of the Northwest Forest Plan and the Agencies' Special Status Species Policies. This ROD also complies with the Settlement Agreement between the Secretaries of Agriculture and Interior and Douglas Timber Operators and American Forest Resource Council.

ADDRESSES: To request copies of the document, contact: Survey and Manage ROD, 333 SW., First Avenue, P.O. Box 2965, Portland, Oregon 97208; fax: (503) 326-2396 (please address fax to: “Survey and Manage ROD”). The ROD may also be accessed on line at http://www.or.blm.gov/nwfpnepa.

FOR FURTHER INFORMATION CONTACT: Jerry Hubbard, Survey & Manage ROD Team Logistics Coordinator; telephone (503) 326-2355; or e-mail: oregon_smnepa_mail@or.blm.gov.

SUPPLEMENTARY INFORMATION: A limited number of individual copies of the Draft or Final SEIS may also be obtained by contacting Jerry Hubbard. Copies are also available for inspection at public libraries and Forest Service or BLM offices in western Washington, western Oregon, and northwestern California.

Three alternatives, including no action, were considered in detail in the Final Supplemental Environmental Impact Statement (SEIS). The decision in the ROD selects Alternative 2, which would remove the Survey and Manage Mitigation Measure. The additional mitigation that was identified in the Final SEIS for Alternative 2 is not selected. This decision amends the management direction in all 28 Forest Service land and resource management plans and BLM resource management plans in the Northwest Forest Plan area as well as for the Coquille Forest (managed by the Coquille Tribe).

Readers should note that the Under Secretary of Agriculture for Natural Resources and the Environment and the Assistant Secretary of the Interior for Land and Minerals Management are the responsible officials for this proposed action. Therefore, no administrative review (“appeal”) through the Forest Service will be available on the Record of Decision under 36 CFR part 217 and no administrative review (“protest”) through the BLM was available on the Proposed Decision under 43 CFR 1610.5-2.

Dated: April 6, 2004.
Elaine M. Brong,
State Director, OR/WA, USDI Bureau of Land Management.
Dated: April 6, 2004.
Linda Goodman,
Regional Forester, Region 6, USDA Forest Service.

[FR Doc. 04-10235 Filed 5-6-04; 8:45 am]

BILLING CODE 4310-33-P